DEPARTMENT OF THE TREASURY

Internal Revenue Service

26 CFR Part 54

[REG-120391-10]

RIN 1545-BJ60

Coverage of Certain Preventive Services Under the Affordable Care Act; Correction

AGENCY: Internal Revenue Service (IRS), Treasury.

ACTION: Correction to proposed rules.

SUMMARY: This document contains a correction to proposed rules (REG-120391-10) that was published in the Federal Register on Wednesday, February 6, 2013 (77 FR 8456). The proposed rules propose amendments to rules regarding coverage for certain preventive services under section 2713 of the Public Health Service Act, as added by the Patient Protection and Affordable Care Act, as amended, and incorporated into the Employee Retirement Income Security Act of 1974 and the Internal Revenue Code.

FOR FURTHER INFORMATION CONTACT: Karen Levin at (202) 927-9639 (not a toll free number).

SUPPLEMENTARY INFORMATION:

Background

The proposed rules (REG-120391-10) that is the subject of these corrections is under Section 2713 of the Public Health Service Act.

Need for Correction

As published, the proposed rules (REG-120391-10) contains an error that may prove to be misleading and is in need of clarification.

Correction of Publication

Accordingly, the proposed rules (REG-120391-10), that was the subject of FR Doc. 2013-02420, is corrected as follows:

On page 8456, in the heading, column 3, the regulation number is corrected to read [REG-120391-10].

LaNita VanDyke,
Chief, Publications and Regulations Branch, Legal Processing Division, Associate Chief Counsel, (Procedure and Administration).

[FR Doc. 2013-04608 Filed 2-27-13; 8:45 am]

BILLING CODE 4830-01-P